FEDERAL COMMUNICATIONS COMMISSION

Information Collections Being Submitted for Review and Approval to the Office of Management and Budget (OMB)

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before June 7, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov mailto : Nicholas_A._Fraser@omb.eop.gov and to Judith B. Herman, Federal Communications Commission, via the Internet at Judith-b.herman@fcc.gov. To submit your PRA comments by email send them to: PRA@fcc.gov mailto: PRA@fcc.gov.

FOR FURTHER INFORMATION CONTACT: Judith B. Herman, Office of Managing Director, FCC, at 202-418-0214.

SUPPLEMENTARY INFORMATION: OMB Control Number: 3060-0936.

Title: Section 95.1215, Medical Device Radiocommunications Service (MedRadio), Disclosure Policies; and Section 95.1217, Labeling Requirements.

Form No.: N/A.

Type of Review: Revision of a currently approved collection.

Respondents: Business or other for-profit and not-for-profit institutions.

Number of Respondents: 100 respondents; 100 responses.

Estimated Time Per Response: 1 hour for each manufacturer (20 manufacturers).

Frequency of Response: On occasion reporting requirement and third party disclosure requirement.

Obligation to Respond: Required to obtain or retain benefits. Statutory authority for this information collection is contained in 47 U.S.C. 151 and 303 of the Communications Act of 1934, as amended.

Total Annual Burden: 100 hours.

Total Annual Cost: N/A.

Privacy Act Impact Assessment: N/A.

Nature and Extent of Confidentiality: There is no need for confidentiality.

Needs and Uses: The Commission will submit this information collection to the Office of Management and Budget (OMB) during this 30 day comment period in order to obtain the full three year clearance from them.

The Commission now seeks OMB approval for a revision. The Commission adopted and released a Report and Order, FCC 11-176, Amendment of Parts 2 and 95 of the Commission's rules to provide additional spectrum for the Medical Device Radiocommunication Service which requires manufacturers of MedRadio programmer/control transmitters shall include the following statement on the device in a conspicuous location, or if it is not feasible to place the statement on the device, in the instruction manual:

This device may not interfere with stations operating in the 400.150-406.000 MHz band in Meteorological Satellite and Earth Exploration Satellite Services and must accept any interference received, including interference that may cause undesired operation.

The Commission adopted and released the following language in its Report and Order, FCC 11-176, which will be included in its regulations in part 95:

Manufacturers of MedRadio transmitters operating in the 413-419 MHz, 426-432 MHz, 438-444 MHz, and 451-457 MHz bands must include with each transmitting device the following statement:

This transmitter is authorized by rule under the MedRadio Service (47 CFR Part 95). This transmitter must not cause harmful interference to stations authorized to operate on a primary basis in the 413-419 MHz, 426-432 MHz, 438-444 MHz and 451-457 MHz bands, and must accept interference that may be caused by such stations, including interference that may cause undesired operation. This transmitter shall be used only in accordance with the FCC Rules governing the MedRadio Service. Analog and digital voice communications are prohibited. Although this transmitter has been approved by the Federal Communications Commission, there is no guarantee that it will not receive interference or that any particular transmission from this transmitter will be free from interference.

OMB Control Number: 3060-1085.

Title: Section 9.5, Interconnected Voice Over Internet Protocol (VoIP) E911 Compliance.

Form No.: N/A.

Type of Review: Extension of a currently approved collection.

Respondents: Business or other for-profit and not-for-profit institutions.

Number of Respondents: 12 respondents; 14,612,166 responses.

Estimated Time Per Response: 0.04012548 hours.

Frequency of Response: On occasion reporting requirement, recordkeeping requirement and third party disclosure requirement.

Obligation to Respond: Required to obtain or retain benefits. Statutory authority for this information collection is contained in 47 U.S.C. 151, 154(i)-(j), 251(e) and 303(r) of the Communications Act of 1934, as amended.

Total Annual Burden: 586,320 hours.

Total Annual Cost: $80,235,305.

Privacy Act Impact Assessment: N/A.

Nature and Extent of Confidentiality: Applicants may seek confidential treatment of their filings pursuant to 47 CFR 0.459 of the Commission's rules. With respect to Location Registration, Provision of ALI, Customer Notification, Record of Customer Location and User Notification requirements, the Commission currently does not have rules governing the treatment of such information by interconnected VoIP providers.

Needs and Uses: The Commission will submit this information collection to the Office of Management and Budget (OMB) during this 30 day comment period in order to obtain the full three year clearance from them.

Prior burden estimates were based upon interpolations of public data collected by the Commission pursuant to its statutory obligations to assess collections upon carriers for such programs as the universal service fund and telephone relay service, other government agency reports, and trade association information. These estimates included assumptions about the extent and pace of carrier convergence from circuit switched facilities to broadband pipes that use Transfer Control Protocol/Internet Protocol (TCP/IP) technology to carry voice, video and internet services combined. The estimates also included subscriber churn and subscribership growth assumptions by both interconnected and non-interconnected VoIP service providers. The estimates were never tested by actual numbers of interconnected and non-interconnected VoIP subscribers because none existed from any source.

For the purpose of this renewal, the Appendix A from 2009 provided the base data and a two percent growth factor was added and annualized over a period of this three year extension request (2012-2015). The growth factor was developed on the basis of publically-available data from several sources.

The Commission requires providers of interconnected Voice Over Internet Protocol (VoIP) services to obtain information regarding their end users' location as a condition of providing service. Interconnected VoIP providers must provide that information to entities that maintain databases used to ensure that the caller's location and a call back number are provided to requesting public safety answering points (PSAPs) when a 911 call is placed. The Commission also requires interconnected VoIP providers to ensure that end users understand any limitations of their service and obtain from the end user evidence of such understanding.

Federal Communications Commission.
Marlene H. Dortch,
Secretary, Office of the Secretary, Office of Managing Director.

[FR Doc. 2012-10999 Filed 5-7-12; 8:45 am]

BILLING CODE 6712-01-P